DEPARTMENT OF THE INTERIOR

Bureau of Land Management

[CACA 43949, LLCA930000, L14300000.ET0000]

Notice of Proposed Withdrawal, Transfer of Jurisdiction, and Notice of Public Meeting; California

AGENCY: Bureau of Land Management, Interior.

ACTION: Notice; Correction.

SUMMARY: The Bureau of Land Management (BLM) published a notice in the Federal Register on December 31, 2003, (68 FR 75628) that contained an erroneous legal description. This correction also supersedes and replaces the correction made on November 17, 2010 (75 FR 70288).

Correction

On page 75628 in the second column, line 12, the acreage is corrected to read 3,385 acres of public lands for use as a mountain warfare training facility.

On page 75628 in the second column, lines 56 and 57, correct the legal description to read: sec. 24, lots 4, 5, 20, 22, 24, 26, and SW¼SW¼; and sec. 25, all;

On page 75628 in the third column, line 2, the acreage is corrected to read 3,385 acres in San Diego County.

FOR FURTHER INFORMATION CONTACT: Heather Fullerton, Realty Specialist, BLM, California State Office, 2800 Cottage Way, Suite W-1834, Sacramento, California 95825, or phone (916) 978-4634.

Tom Pogacnik,
Deputy State Director for Natural Resources.

[FR Doc. 2011-28261 Filed 10-31-11; 8:45 am]

BILLING CODE 4310-40-P